DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 391-404 dated January 5, 2010).

This notice reflects organizational changes in the Health Resources and Services Administration. Specifically, this notice establishes the Office of Policy Analysis (RA53) and the Office of Data Management and Research (RA54) within the Office of Planning, Analysis and Evaluation (RA5); renames the Division of Health Information Technology and Quality (RA52) as the Office of Health Information Technology and Quality (RA52); establishes the Division of Workforce Development (RB44) within the Office of Management (RB4); and renames the Division of Policy Review and Coordination as the Division of Policy and Information Coordination (RB41) within the Office of Management (RB4).

Chapter RA5—Office of Planning, Analysis and Evaluation

Section RA5-10, Organization

Delete in its entirety and replace with the following:

The Office of Planning, Analysis and Evaluation (RA5) is headed by the Director, Office of Planning, Analysis and Evaluation, within the Office of the Administrator, Health Resources and Services Administration, who reports directly to the Administrator. The Office of Planning, Analysis and Evaluation includes the following components:

(1) Immediate Office of the Director (RA5);

(2) Office of Planning and Evaluation (RA51);

(3) Office of Health Information Technology & Quality (RA52);

(4) Office of Policy Analysis (RA53); and

(5) Office of Data Management and Research (RA54).

Section RA5-20, Functions

(1) Delete the functional statement for the Office of Planning, Analysis and Evaluation (RA5) and replace in its entirety; (2) establish the Office Policy Analysis (RS53); (3) establish the Office of Data Management and Research (RA54); and renames the Division of Health Information Technology and Quality (RA52) as the Office of Health Information Technology and Quality (RA52).

Office of Planning, Analysis and Evaluation (RA5)

(1) Provides Agency-wide leadership for policy development, data collection and management, major analytic activities, research, and evaluation: (2) develops HRSA-wide policies; (3) coordinates the Agency's strategic planning process; (4) conducts and coordinates analyses, evaluation and research; (5) coordinates the Agency's intergovernmental activities; (6) maintains liaison between the Administrator, other OPDIVs, Office of the Secretary staff components, and other Departments on critical matters involving analysis of program policy undertaken in the Agency; (7) prepares policy analysis papers and planning documents as required; (8) analyzes budgetary data with regard to planning guidelines; (9) collaborates with the Office of Operations in the development of budgets, performance plans, and other administration reporting requirements; (10) conducts and/or guides the Agency's research and program evaluation; (11) provides leadership in the development of policies on health information technology and quality; and (12) provides support for the Department's Medical Claims Review Panel.

Office of Planning and Evaluation (RA51)

(1) Provides leadership in the development of the long-term Agency-wide strategic plan; (2) participates with HRSA organizations in developing strategic plans for their component; (3) conducts major program evaluation efforts; (4) provides advice and assistance to program-level HRSA components in the design and conduct of evaluations; (5) develops annual performance plans; (6) analyzes budgetary data with regard to planning guidelines; (7) develops and produces performance reports required under the Government Performance and Accountability Report and OMB; (8) conducts the public use reports clearance function; and (9) conducts, guides, and/or participates in evaluations studies and prepares reports on HRSA program efficiencies.

Office of Health Information Technology & Quality (RA52)

(1) Provides support, policy direction, and leadership for HRSA's health quality efforts; (2) serves as the focal point for developing policy to promote the coordination and advancement of health information technology, including telehealth, to HRSA's programs, including the use of electronic health record systems; (3) develops an Agency-wide health information technology and telehealth strategy for HRSA; (4) assists HRSA components in program-level health information technology and health quality efforts; (5) ensures successful dissemination of appropriate information technology advances, such as electronic health records systems, to HRSA programs; (6) works collaboratively with States, foundations, national organizations, private sector providers, as well as departmental agencies and other Federal departments in order to promote the adoption of health information technology and health quality policy; (7) ensures the health information technology policy and activities of HRSA are coordinated with those of other HHS components; (8) assesses the impact of health information technology and quality initiatives in the community, especially for the uninsured, underserved, and special needs populations; (9) translates technological advances in health information technology to HRSA's programs; (10) provides guidance in using the results of the medical claims review process to HRSA programs to improve quality; and (11) provides support for the Department's Medical Claims Review Panel.

Office of Policy Analysis (RA53)

(1) Serves as the principal Agency resource for policy analysis; (2) analyzes issues arising from legislation, budget proposals, regulatory actions, and other program or policy actions; (3) serves as focal point within HRSA for analysis of healthcare payment systems and financing issues; (4) collaborates with HHS Agencies to examine the impact of Medicare, Medicaid, and Children's Health Insurance Program (CHIP) on HRSA grantees and safety net providers; (5) provides Agency leadership guidance on policy development; (6) serves as a resource of information and institutional knowledge for the Agency; (7) coordinates the Agency's participation in Healthy People, and other Department and Federal initiatives; (8) coordinates the Agency's intergovernmental activities, including: Providing the Administrator with a single point of contact on all activities related to important State and local government, stakeholder association, and interest group activities; coordinating Agency cross-Bureau cooperative agreements and activities with organizations such as the National Governors Association, National Conference of State Legislature, Association of State and Territorial Health Officials, National Association of Counties, and National Association of County and City Health Officials; interacting with various commissions such as the Delta Regional Authority, Appalachian Regional Commission, and on Denali Commission; and serving as the primary liaison to Department intergovernmental staff; and (9) prepares policy analysis papers and other planning documents as required.

Office of Data Management and Research (RA54)

(1) Serves as the principal source of leadership and advice on program information and research; (2) analyzes and coordinates the Agency's need for information and data for use in the management and direction of Agency programs; (3) manages an Agency-wide information and data group as well as an Agency-wide research group; (4) maintains an inventory of HRSA databases; (5) provides technical assistance to HRSA staff in database development, maintenance, analysis, and distribution; (6) promotes the availability of HRSA data through web-sites and other on-line applications; (7) conducts, oversees, and fosters high quality research across HRSA programmatic interests; (8) develops an annual research agenda for the Agency; (9) conducts, leads, and/or participates with HRSA staff in the development of research and demonstration projects; (10) coordinates HRSA participation in institutional review boards and the protection of human subjects; and (11) manages HRSA activity related to the Paperwork Reduction Act and other OMB policies.

Section RA5-30, Delegations of Authority

All delegations of authority and re-delegations of authority made to HRSA officials that were in effect immediately prior to this reorganization, and that are consistent with this reorganization, shall continue in effect pending further re-delegation.

Chapter RB4—Office of Management

Section RB4-10, Organization

Delete in its entirety and replace with the following:

The Office of Management (RB4) is headed by the Director, Office of Management within the Office of Operations, Health Resources and Services Administration, who reports directly to the Chief Operating Officer. The Office of Management includes the following components:

(1) Immediate Office of the Director (RB4);

(2) Division of Policy and Information Coordination (RB41);

(3) Division of Workforce Management (RB42);

(4) Division of Management Services (RB43); and

(5) Division of Workforce Development (RB44).

Section RB4-20, Functions

(1) Delete the functional statement for the Office of Management (RB4) and replace in its entirety; (2) establish the Division of Workforce Development (RB44); and rename the Division of Policy Review and Coordination as the Division of Policy and Information Coordination (RB41).

Office of Management (RB4)

Provides Agency-wide leadership, program direction, and coordination of all phases of administrative management. Specifically, the Office of Management: (1) Provides management expertise, staff advice, and support to the Administrator in program and policy formulation and execution; (2) provides administrative management services including human resources, procurement, property, space planning, safety, physical security, and general administrative services; (3) conducts Agency-wide workforce analysis studies and surveys; (4) plans, directs, and coordinates the Agency's activities in the areas of human resources management, including labor relations, personnel security, performance and alternative dispute resolution; (5) coordinates the development of policy and regulations; (6) oversees the development of annual operating objectives and coordinates HRSA work planning and appraisals; (7) directs and coordinates the Agency's organizations, functions and delegations of authority programs; (8) manages the Continuity of Operations (COOP) program for the Offices supported by the Office of Management; (9) administers the Agency's Executive Secretariat and committee management functions; (10) provides staff support to the Agency Chief Travel Official; (11) provides staff support to the Deputy Ethics Counselor; and (12) directs, coordinates, and conducts workforce development activities for the Agency.

Division of Policy and Information Coordination (RB41)

(1) Advises the Administrator and other key Agency officials on cross-cutting policy issues and assists in the identification and resolution of cross-cutting policy issues and problems; (2) establishes and maintains tracking systems that provide Agency-wide coordination and clearance of policies, regulations and guidelines; (3) plans, organizes and directs the Agency's Executive Secretariat with primary responsibility for preparation and management of written correspondence; (4) arranges briefings for Department officials on critical policy issues and oversees the development of necessary briefing documents; (5) administers administrative early alert system for the Agency to assure senior Agency officials are informed about administrative actions and opportunities; (6) coordinates the preparation of proposed rules and regulations relating to Agency programs and coordinates Agency review and comment on other Department regulations and policy directives that may affect the Agency's programs; (7) manages and maintains a records management program for the Agency; (8) oversees and coordinates the Agency's committee management activities; (9) coordinates the review and publication of Federal Register Notices; (10) provides advice and guidance for the establishment or modification of administrative delegations of authority; (11) provides advice and guidance for the establishment or modification of program delegations of authority; and (12) contributes to the analysis, development and implementation of Agency-wide administrative policies through coordination with relevant Agency program components and other related sources.

Division of Workforce Management (RB42)

(1) Conducts Agency-wide workforce analysis studies and surveys; (2) develops comprehensive workforce strategies that meet the requirements of the President's Management Agenda, programmatic needs of HRSA, and the governance and management needs of HRSA leadership; (3) evaluates employee development practices to develop and enhance strategies to ensure HRSA retains a cadre of public health professionals and reduces risks associated with turnover in mission critical positions; (4) provides advice and guidance for the establishment or modification of organization structures, functions, and delegations of authority; (5) manages ethics and personnel security programs; (6) administers the Agency's performance management programs, including the SES Performance Review Board; (7) manages quality of work life, flexi place, and incentive and honor awards programs; (8) coordinates with the service provider the provision of human resources management, working with the service provider to communicate human resources requirements and monitoring the provider's performance; (9) manages the Alternative Dispute Resolution Program; (10) provides support and guidance on human resources issues for the Offices supported by the Office of Management; and (11) oversees the commissioned corps liaison activities including the day-to-day operations of workforce management.

Division of Management Services (RB43)

(1) Provides administrative management services including procurement, property, space planning, safety, physical security, and general administrative services; (2) ensures implementation of statutes, Executive Orders, and regulations related to official travel, transportation, and relocation; (3) provides oversight for the HRSA travel management program involving use of travel management services/systems, passenger transportation, and travel charge cards; (4) provides planning, management and oversight of all interior design projects, move services and furniture requirements; (5) develops space and furniture standards and related policies; (6) provides analysis of office space requirements required in supporting decisions relating to the acquisition of commercial leases and manages the furniture inventory; (7) provides advice, counsel, direction, and support to employees to fulfill the Agency's primary safety responsibility of providing a workplace free from recognizable safety and health concerns; (8) manages, controls, and/or coordinates all matters relating to mail management within HRSA, including developing and implementing procedures for the receipt, delivery, collection, and dispatch of mail; (9) maintains overall responsibility for the HRSA Forms Management Program which includes establishing internal controls to assure conformity with departmental policies and standards, including adequate systems for reviewing, clearing, costing, storing and controlling forms; and (10) manages the Continuity of Operations (COOP) program for the Offices supported by the Office of Management.

Division of Workforce Development (RB44)

(1) Plans, directs, and manages HRSA-wide training programs, intern, professional and leadership development programs, the long-term training program, and the mentoring program; (2) develops, designs, and implements a comprehensive strategic human resource leadership development and career management program for all occupational series throughout HRSA; (3) provides technical assistance in organizational development, career management, employee development, and training; (4) maximizes economies of scale through systematic planning and evaluation of Agency-wide training initiatives to assist HRSA employees in achieving required competencies; (5) identifies relevant scanning/benchmarking on workforce and career development processes, services and products; (6) establishes policies governing major learning initiatives and new learning activities, and works collaboratively with other components of HRSA in planning, developing and implementing policies related to training initiatives; and (7) plans, directs, and manages HRSA-wide training and service programs for fellowships and internships sponsored by other partner organizations and implemented within HRSA.

Section RB4-30, Delegations of Authority

All delegations of authority and re-delegations of authority made to HRSA officials that were in effect immediately prior to this reorganization, and that are consistent with this reorganization, shall continue in effect pending further re-delegation.

This reorganization is effective February 11, 2010.

Dated: February 10, 2010.
Mary K. Wakefield,
Administrator.

[FR Doc. 2010-3355 Filed 2-19-10; 8:45 am]

BILLING CODE 4165-15-P